SECURITIES AND EXCHANGE COMMISSION

Sunshine Act Meeting

Federal Register Citation of Previous Announcement 77 FR 40392, July 9, 2012

STATUS: Closed Meeting.

PLACE: 100 F Street NE., Washington, DC.

DATE AND TIME OF PREVIOUSLY ANNOUNCED MEETING: Tuesday, July 10, 2012 at 10:00 a.m.

CHANGE IN THE MEETING: Date Change.

The Closed Meeting scheduled for Tuesday, July 10, 2012 at 10:00 a.m., has been changed to Friday, July 13, 2012 at 3:00 p.m.

At times, changes in Commission priorities require alterations in the scheduling of meeting items. For further information and to ascertain what, if any, matters have been added, deleted or postponed, please contact:

The Office of the Secretary at (202) 551-5400.

Dated: July 10, 2012.
Elizabeth M. Murphy,
Secretary.

[FR Doc. 2012-17126 Filed 7-10-12; 4:15 pm]

BILLING CODE 8011-01-P